DEPARTMENT OF LABOR

Employment and Training Administration

[TA-W-40,785]

The Boeing Company, McDonald/Douglas Corporation, Commercial Airplane Division, Long Beach, CA; Amended Certification Regarding Eligibility To Apply for Worker Adjustment Assistance

In accordance with section 223 of the Trade Act of 1974 (19 U.S.C. 2273) the Department of Labor issued a Certification of Eligibility to Apply for Worker Adjustment Assistance on May 6, 2002, applicable to workers of The Boeing Company, Commercial Airplane Division, Long Beach, California. The notice was published in the Federal Register on May 17, 2002 (67 FR 35141).

At the request of the State agency, the Department reviewed the certification for workers of the subject firm. The workers are engaged in the production of large commercial aircraft.

New information shows that some workers separated from employment at the subject firm had their wages reported under a separate unemployment insurance (UI) tax account for McDonald/Douglas Corporation.

Accordingly, the Department is amending the certification to properly reflect this matter.

The intent of the Department's certification is to include all workers of The Boeing Company, Commercial Airplane Division, Long Beach, California who were adversely affected by increased imports.

The amended notice applicable to TA-W-40,785 is hereby issued as follows:

All workers of The Boeing Company, McDonald/Douglas Corporation, Commercial Airplane Division, Long Beach, California, who became totally or partially separated from employment on or after February 25, 2002, through May 6, 2004, are eligible to apply for adjustment assistance under Section 223 of the Trade Act of 1974.

Signed at Washington, DC, this 20th day of August, 2002.
Linda G. Poole,
Certifying Officer, Division of Trade Adjustment Assistance.

[FR Doc. 02-24111 Filed 9-20-02; 8:45 am]

BILLING CODE 4510-30-P